DEPARTMENT OF JUSTICE

Notice of Lodging of Proposed Consent Decree Under the Clean Water Act

On March 5, 2014, the Department of Justice lodged a proposed Consent Decree with the United States District Court for the District of Montana in the lawsuit entitled United States and the State of Montana v. the City of Great Falls, Montana and Malteurop North America, Inc., Civil Action No. 4:14-cv-00016-BMM.

The United States filed this lawsuit under the Clean Water Act. The complaint names the City of Great Falls, Montana (the “City”) and Malteurop North America, Inc. (“Malteurop”) as defendants. The complaint seeks injunctive relief and civil penalties for violations of various provisions of the Clean Water Act arising from the City's operation of its municipal wastewater and sewer system and from Malteurop's operation of a malting plant that discharges to the City's sewer system.

The proposed Decree would require the City to implement its Pretreatment Program. The Decree would also require the City to take a number of specific steps to prevent sanitary sewer overflows, including implementing a program for controlling Fats, Oil, and Grease (“FOG”) and root growth; a program for controlling inflow and infiltration (“I/I”) (unless the City demonstrates that I/I is not contributing to SSOs or bypass events and that it has the capacity to transport and treat I/I); and a Capacity, Management, Operations, and Maintenance (“CMOM”) program. Finally, the Decree would require the City to pay a $120,000 civil penalty, to be split equally between the United States and the State of Montana.

The proposed Decree would require Malteurop to meet limits based on OSHA standards for hydrogen sulfide at a specific location in the City's sewer. Malteurop may meet these limits by constructing a private service line to bypass a portion of the sewer where conditions exist that allow Malteurop's discharges to result in the formation of hydrogen sulfide. In the interim, Malteurop will continue to operate an existing Super Oxygenation System, which minimizes hydrogen sulfide formation by injecting dissolved oxygen into a portion of the wastewater discharged by Malteurop. The proposed Decree would also require Malteruop to pay a $525,000 civil penalty to the United States.

The publication of this notice opens a period for public comment on the Consent Decree. Comments should be addressed to the Assistant Attorney General, Environment and Natural Resources Division, and should refer to United States, et al. v. the City of Great Falls, MT, et al., D.J. Ref. No. 90-5-1-08955. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to:

Consent Decree Library, U.S. DOJ—ENRD, P.O. Box 7611, Washington, DC 20044-7611.

Please enclose a check or money order for $30.75 (25 cents per page reproduction cost) payable to the United States Treasury.

Maureen Katz,
Assistant Section Chief, Environmental Enforcement Section, Environment and Natural Resources Division.

[FR Doc. 2014-05201 Filed 3-10-14; 8:45 am]

BILLING CODE 4410-15-P